DEPARTMENT OF THE INTERIOR

Bureau of Land Management

[CA-360-02-1430-EU; CACA-42488]

Notice of Realty Action, Noncompetitive Sale of Public Lands in Trinity County, California

AGENCY: Bureau of Land Management, Department of the Interior.

ACTION: Notice of Segregation and Sale of Public Land.

SUMMARY: The following public lands have been found suitable for direct sale under section 203 and 209 of the Federal Land Policy and Management Act of 1976 (90 Stat. 2750, 43 U.S.C. 1713), at not less than the estimated fair market value of $5,000.00. The land will not be offered for sale until at least 60 days after the date of publication of the Notice of Realty Action.

Mount Diablo Meridian

T.33N., R.10W., Section 8, Lot 14. Containing 1.39 Acres more of less.

DATES: Submit comments on or before January 23, 2003.

FOR FURTHER INFORMATION CONTACT: Susie Rodriguez, Redding Field Office, 355 Hemsted Drive, Redding, CA. 96002; 530-224-2142.

The land described is hereby segregated from appropriation under the public land laws, including the mining laws, pending disposition of this action or 270 days from the date of publication of this notice, whichever occurs first. This land is being offered by direct sale to the sole adjoining land owner, Charles Capelli, consistent with 43 CFR 2711.3-3(a)(5) and meets the criteria as described in 43 CFR 2710.0-6 (c)(3)(iii). It has been determined that the subject parcel contains no known mineral values; therefore, mineral interests may be conveyed simultaneously. Acceptance of the direct sale offer will qualify the purchaser to make application for conveyance of those mineral interests not reserved to the United States. The lands are not needed for Federal purposes. Conveyance is consistent with current BLM land use planning and would be in the public interest. The patent, when issued, will contain certain reservations to the United States and will be subject to all existing rights. Detailed information concerning these reservations as well as specific conditions of the sale are available for review at the Redding Field Office Bureau of Land Management, 355 Hemsted Dr. Redding, California 96002. For a period of 45 days from the date of publication of this notice in the Federal Register, interested persons may submit written comments regarding the proposed sale to Charles M. Schultz, Field Office Manager, Redding Field Office, Bureau of Land Management, 355 Hemsted Dr., Redding, CA 96002. In the absence of timely objections, this proposal shall become the final determination of the Department of the Interior.

Dated: October 3, 2002.
Charles M. Schultz,
Field Office Manager.

[FR Doc. 02-30990 Filed 12-6-02; 8:45 am]

BILLING CODE 4310-40-P